OFFICE OF SCIENCE AND TECHNOLOGY POLICY

Executive Office of the President; Transparency and Open Government

SUMMARY: The President's January 21, 2009, memorandum entitled, Transparency and Open Government, directed the Chief Technology Officer, in coordination with the Office of Management and Budget (OMB) and the General Services Administration (GSA), to develop a set of recommendations that will inform an Open Government Directive. This directive will be issued by OMB and will instruct executive departments and agencies on specific actions to implement the principles set forth in the President's memorandum. Members of the public are invited to participate in the process of developing recommendations via email or the White House Web site at http://www.whitehouse.gov/open offering comments, ideas, and proposals about possible initiatives and about how to increase openness and transparency in government.

DATES: Comments must be received by June 19, 2009.

ADDRESSES: Submit comments by one of the following methods:

• http://www.whitehouse.gov/open.

• E-mail: opengov@ostp.gov.

• Mail: Office of Science and Technology Policy, Attn: Open Government Recommendations, 725 17th Street, Washington, DC 20502.

Comments submitted in response to this notice could be made available to the public online or by alternative means. For this reason, please do not include in your comments information of a confidential nature, such as sensitive personal information or proprietary information. If you submit an e-mail comment, your e-mail address will be captured automatically and included as part of the comment that is placed in the public docket and made available on the Internet.

FOR FURTHER INFORMATION CONTACT: Office of Science and Technology Policy, Attn: Open Government, 725 17th Street, NW., Washington, DC 20502.

SUPPLEMENTARY INFORMATION: In his January 21, 2009, Presidential Memorandum to the Heads of Executive Departments and Agencies, published in the Federal Register [74 FR 4685, January 26, 2009], the President outlined three principles for promoting a transparent and open government:

• Transparency promotes accountability and provides information to citizens about what their Government is doing;

• Participation enhances the Government's effectiveness and improves the quality of its decisions by tapping knowledge that is widely dispersed in society; and

• Collaboration harnesses innovative tools, methods, and systems to promote cooperation across all levels of Government and with the private sector.

The Presidential Memorandum requests recommendations to inform an OMB Directive that will instruct executive departments and agencies on specific actions to implement the three principles of transparency, participation, and collaboration.

The purpose of this Federal Register notice is to solicit public participation in the development of those recommendations. There is a great deal of dispersed information among the nation's citizens. With twenty-first century tools, the United States is in a unique position to take advantage of that dispersed information to inform the policymaking process. Our goal is to use the principles of open government to obtain fresh ideas about open government itself.

Comments on open government may relate to government-wide or agency-specific policy, project ideas, and relevant examples. Comments may address law, policy, technology, culture, and practice on issues such as:

• What government information should be more readily available on-line or more easily searched?

• How might the operations of government be made more transparent and accountable?

• How might federal advisory committees, rulemaking, or electronic rulemaking be better used to improve decisionmaking?

• What alternative models exist to improve the quality of decisionmaking and increase opportunities for citizen participation?

• What are the limitations to transparency?

• What strategies might be employed to adopt greater use of Web 2.0 in agencies?

• What policy impediments to innovation in government currently exist?

• What changes in training or hiring of personnel would enhance innovation?

• What performance measures are necessary to determine the effectiveness of open government policies?

This public process is not intended to, and does not, create any right or benefit, substantive or procedural, enforceable at law or in equity by any party against the United States, its departments, agencies, or entities, its officers, employees, or agents, or any other person.

John P. Holdren,
Director, Office of Science and Technology Policy.

[FR Doc. E9-12026 Filed 5-20-09; 8:45 am]

BILLING CODE 3170-W9-P